ENVIRONMENTAL PROTECTION AGENCY

40 CFR Part 52

[R05-OAR-2004-OH-0003; FRL-7850-5]

Approval and Promulgation of State Implementation Plans; Ohio; Revised Oxides of Nitrogen (NOX) Regulation and Revised NOX Trading Rule

AGENCY: Environmental Protection Agency (EPA).

ACTION: Proposed rule.

SUMMARY: On June 28, 2004, Ohio submitted an oxides of nitrogen (NOX) State Implementation Plan (SIP) revision request to EPA which included amended rules in Ohio Administrative Code (OAC). The purpose of the SIP revision is to exclude from the NOX trading program carbon monoxide boilers associated with fluidized catalytic cracking units (FCCU). The revision also allocates additional NOX allowances to the overall budget and to the trading budget to correct a typographical error made in the original rule. Removal of the FCCU boilers from the NOX trading program is an option Ohio has elected to incorporate in its NOX control program. The Ohio SIP revision addresses some minor corrections in the rules and also incorporates by reference specific elements of the NOX SIP Call. EPA agrees with Ohio's request because the changes conform to EPA policy. The collective emissions from these sources are small and the administrative burden, to the states and regulated entities, of controlling such sources is likely to be considerable. Inclusion of these small NOX sources in the NOX SIP Call trading program would not be cost effective.

In the Final Rules Section of this Federal Register, EPA is approving the changes to the SIP for Ohio's NOX trading program as a direct final rule without prior proposal because we view this action as noncontroversial and anticipate no adverse comments. If no written adverse comments are received in response to the direct final rule, no further activity is contemplated in relation to this proposed rule. If EPA receives meaningful written adverse comments, the direct final rule will be withdrawn and all public comments received will be addressed in a subsequent final rule based on this proposed rule. If no adverse written comments are received, the direct final rule will take effect on the date stated in that document and no further activity will be taken on this proposed rule. Any party interested in commenting on this action should do so within the timeframe noted below.

DATES: Comments on this action must be received by February 18, 2005.

ADDRESSES: Submit comments, identified by Regional Material in e-Docket (RME) ID No. R05-OAR-2004-OH-0003 by one of the following methods:

Federal e-Rulemaking Portal: http://www.regulations.gov. Follow the on-line instructions for submitting comments.

Agency Web site: http://docket.epa.gov/rmepub. Regional Material in e-Docket (RME), EPA's electronic public docket and comment system, is EPA's preferred method for receiving comments. Once in the system, select “quick search” then key in the instructions for submitting comments.

E-mail: bortzer.jay@epa.gov.

Fax: (312) 886-5824.

Mail: You may send written comments to: J. Elmer Bortzer, Chief, Air Programs Branch, (AR-18J), Environmental Protection Agency, 77 West Jackson Boulevard, Chicago, Illinois 60604.

Hand delivery: Deliver your comments to: J. Elmer Bortzer, Chief, Air Programs Branch (AR-18J), 18th floor, U.S. Environmental Protection Agency, Region 5, 77 West Jackson Boulevard, Chicago, Illinois 60604. Such deliveries are only accepted during the Regional Office's normal hours of operation. The Regional Office's official hours of business are Monday through Friday, 8:30 a.m. to 4:30 p.m. excluding Federal holidays.

Instructions: Direct your comments to RME ID No. R05-OAR-2004-OH-0003. EPA's policy is that all comments received will be included in the public docket without change, including any personal information provided, unless the comment includes information claimed to be Confidential Business Information (CBI) or other information whose disclosure is restricted by statute. Do not submit information that you consider to be CBI or otherwise protected through RME regulations.gov, or e-mail. The EPA RME Web site and the federal regulations.gov Web site are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the electronic docket are listed in the RME index at http://www.epa.gov/edocket. Although listed in the index, some information is not publicly available, i.e., Confidential Business Information (CBI) or other information whose disclosure is restricted by statute. Publicly available docket materials are available either electronically in RME or in hard copy at Environmental Protection Agency, Region 5, Air and Radiation Division, 77 West Jackson Boulevard, Chicago, Illinois 60604. (We recommend that you telephone John Paskevicz, Engineer, at (312) 886-6084 before visiting the Region 5 office.) This Facility is open from 8:30 a.m. to 4:30 p.m., Monday through Friday, excluding legal holidays.

FOR FURTHER INFORMATION CONTACT: John Paskevicz, Engineer, Criteria Pollutant Section, Air Programs Branch (AR-18J), EPA Region 5, 77 West Jackson Boulevard, Chicago, Illinois 60604, (312) 353-8656. paskevicz.john@epa.gov.

SUPPLEMENTARY INFORMATION: Throughout this document whenever “we,” “us,” or “our” are used we mean the EPA.

Table of Contents

General Information

I. What Actions Are EPA Taking Today?

II. Instructions for Submitting Comments.

III. Additional Information.

General Information

I. What Actions Are EPA Taking Today?

The EPA is proposing to approve a revision to the Ohio NOX trading SIP, specifically Ohio Administrative Code 3745-14 submitted by the State on June 28, 2004. The purpose of the submittal is to change the rule to remove the applicability of the rule to boilers associated with fluidized catalytic cracking units (FCCU) at petroleum refineries. The revision also allocates an additional 16 NOX allowances to the overall emissions budget and the trading budget to correct a typographical error made in the original state rule. EPA is proposing to approve the Ohio request because the changes conform to our policy regarding carbon monoxide boilers associated with FCCUs at refineries. The collective emissions from these sources are small and the administrative burden, to the states and regulated entities, of controlling such sources is likely to be considerable. Inclusion of these small NOX sources in the NOX SIP Call trading program would not be cost effective.

II. Instructions for Submitting Comments

1. Submitting CBI. Do not submit this information to EPA through RME, regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

a. Identify the rulemaking by docket number and other identifying information (subject heading, Federal Register date and page number).

b. Follow directions—The agency may ask you to respond to specific questions or organize comments by referencing a Code of Federal Regulations (CFR) part or section number.

c. Explain why you agree or disagree; suggest alternatives and substitute language for your requested changes.

d. Describe any assumptions and provide any technical information and/or data that you used.

e. If you estimate potential costs or burdens, explain how you arrived at your estimate in sufficient detail to allow for it to be reproduced.

f. Provide specific examples to illustrate your concerns, and suggest alternatives.

g. Explain your views as clearly as possible, avoiding the use of vulgarity or personal threats.

h. Make sure to submit your comments by the comment period deadline identified.

III. Additional Information

For additional information, see the Direct Final Rule which is located in the Rules section of this Federal Register. Copies of the State's request and the EPA's analysis are available electronically at RME or in hard copy at the above address. (Please telephone John Paskevicz at (312) 886-6084 before visiting the Region 5 Office.)

Authority: 42 U.S.C. 7401 et seq.

Dated: December 3, 2004.
Bharat Mathur,
Acting Regional Administrator, Region 5.

[FR Doc. 05-1033 Filed 1-18-05; 8:45 am]

BILLING CODE 6560-50-P